DEPARTMENT OF TRANSPORTATION

Federal Aviation Administration

14 CFR Part 39

[Docket No. FAA-2010-1243; Directorate Identifier 2010-CE-058-AD; Amendment 39-16626; AD 2011-06-02]

RIN 2120-AA64

Airworthiness Directives; Cessna Aircraft Company (Cessna) Model 172 Airplanes Modified by Supplemental Type Certificate (STC) SA01303WI

AGENCY: Federal Aviation Administration (FAA), DOT.

ACTION: Final rule; correction.

SUMMARY: The FAA is correcting an airworthiness directive (AD) that published in the Federal Register. That AD applies to the products listed above. The numbering of paragraphs (j)(3), (j)(4), and (j)(5) in the Material Incorporated by Reference section is incorrect. This document corrects that error. In all other respects, the original document remains the same.

DATES: This final rule is effective May 26, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Richard Rejniak, Aerospace Engineer, Wichita Aircraft Certification Office (ACO), FAA, 1801 Airport Road, Room 100; phone: (316) 946-4128; fax: (316) 946-4107; e-mail: richard.rejniak@faa.gov.

SUPPLEMENTARY INFORMATION: Airworthiness Directive 2011-06-02, amendment 39-16626 (76 FR 22298, April 21, 2011), currently requires installing a full authority digital engine control (FADEC) backup battery, replacing the supplement pilot's operating handbook and FAA approved airplane flight manual, and replacing the FADEC backup battery every 12 calendar months for Cessna Aircraft Company (Cessna) Model 172 Airplanes modified by Supplemental Type Certificate (STC) SA01303WI.

As published, the numbering of paragraphs (j)(3), (j)(4), and (j)(5) in the Material Incorporated by Reference section is incorrect.

No other part of the preamble or regulatory information has been changed; therefore, only the changed portion of the final rule is being published in the Federal Register.

The effective date of this AD remains May 26, 2011.

Correction of Regulatory Text

§ 39.13 [Corrected]

In the Federal Register of April 21, 2011, on page 22301, in the right column, paragraph (j) of AD 2011-06-02 is corrected to read as follows:

* * * * *

(1) For service information identified in this AD, contact Thielert Aircraft Engines Service GmbH, Platanenstraße 14, D-09350 Lichtenstein, Deutschland; telephone: +49 (37204) 696-1474; fax: +49 (37204) 696-1910; Internet: http://www.thielert.com/.

(2) You may review copies of the service information at the FAA, Small Airplane Directorate, 901 Locust, Kansas City, Missouri 64106. For information on the availability of this material at the FAA, call 816-329-4148.

(3) You may also review copies of the service information that is incorporated by reference at the National Archives and Records Administration (NARA). For information on the availability of this material at an NARA facility, call 202-741-6030, or go to http://www.archives.gov/federal_register/code_of_federal_regulations/ibr_locations.html.

* * * * *

Issued in Kansas City, Missouri, on May 3, 2011.
Earl Lawrence,
Manager, Small Airplane Directorate, Aircraft Certification Service.

[FR Doc. 2011-11260 Filed 5-10-11; 8:45 am]

BILLING CODE 4910-13-P